DEPARTMENT OF JUSTICE

Bureau of Justice Statistics

[OMB Number 1121-NEW]

Agency Information Collection Activities; Proposed eCollection; eComments Requested; New Collection: Supplemental Fraud Survey (SFS) to the National Crime Victimization Survey (NCVS) 2017

AGENCY: Bureau of Justice Statistics, Department of Justice.

ACTION: 30-day notice.

SUMMARY: Department of Justice (DOJ), Office of Justice Programs, Bureau of Justice Statistics, will be submitting the following information collection request to the Office of Management and Budget (OMB) for review and approval in accordance with the Paperwork Reduction Act of 1995. This proposed information collection was previously published on May 3, 2017 allowing for a 60 day comment period. Comments from the public were received during this period and are thoroughly addressed in the supporting statement for this collection.

DATES: Comments are encouraged and will be accepted for an additional 30 day until August 9, 2017.

FOR FURTHER INFORMATION CONTACT: If you have additional comments especially on the estimated public burden or associated response time, suggestions, or need a copy of the proposed information collection instrument with instructions or additional information, please contact Rachel Morgan, Statistician, Bureau of Justice Statistics, 810 Seventh Street NW., Washington, DC 20531 (email: Rachel.Morgan@usdoj.gov; telephone: 202-616-1707). Written comments and/or suggestions can also be sent to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: New collection.

(2) Title of the Form/Collection: Supplemental Fraud Survey (SFS) to the National Crime Victimization Survey (NCVS) 2017.

(3) Agency form number, if any, and the applicable component of the Department sponsoring the collection: The form number for the questionnaire is SFS-1. The applicable component within the Department of Justice is the Bureau of Justice Statistics, in the Office of Justice Programs.

(4) Affected public who will be asked or required to respond, as well as a brief abstract: Respondents will be persons age 18 or older living in households located throughout the United States sampled for the National Crime Victimization Survey (NCVS). The SFS will be conducted as a supplement to the NCVS in all sampled households for a three (3) month period. The SFS is an effort to measure the prevalence of financial fraud victimization among persons 18 or older, characteristics of fraud victims, and patterns of reporting fraud victimization to the police and other agencies. BJS plans to publish this information in reports and reference it when responding to queries from the U.S. Congress, Executive Office of the President, the U.S. Supreme Court, state officials, international organizations, researchers, students, the media, and others interested in criminal justice statistics.

(5) An estimate of the total number of respondents and the amount of time estimated for an average respondent to respond/reply: An estimate of the total number of respondents is 79,832. About 88% (70,252) will have no fraud victimization and will complete the short interview with an average burden of five (5) minutes. Among the 12% of respondents (9,580) who experience fraud victimization, the time to ask the detailed questions regarding the aspects of their fraud victimization is estimated to take an additional 10 minutes. Respondents will be asked to respond to this survey only once during the three month period.

(6) An estimate of the total public burden (in hours) associated with the collection: There are an estimated 8,015 total burden hours associated with this collection.

If additional information is required contact: Melody Braswell, Department Clearance Officer, United States Department of Justice, Justice Management Division, Policy and Planning Staff, Two Constitution Square, 145 N Street NE., Suite 3E.405B, Washington, DC 20530.

Dated: July 5, 2017.
Melody Braswell,
Department Clearance Officer, PRA, U.S. Department of Justice.

[FR Doc. 2017-14367 Filed 7-7-17; 8:45 am]

BILLING CODE 4410-18-P